DEPARTMENT OF TRANSPORTATION

Federal Aviation Administration

14 CFR Parts 120, 142, and 413

[Docket No. FAA-2024-0021; Amendment Nos. 120-4, 142-12, and 413-14]

RIN 2120-AL84

Falsification, Reproduction, Alteration, Omission, or Incorrect Statements

AGENCY: Federal Aviation Administration (FAA), U.S. Department of Transportation (DOT).

ACTION: Correcting amendments.

SUMMARY: On September 3, 2025, FAA published a final rule titled “Falsification, Reproduction, Alteration, Omission, or Incorrect Statements”. That final rule incorrectly deleted three sections of Title 14 of the Code of Federal Regulations rather than the intended one paragraph in each of those sections. This document corrects the final regulations.

DATES: Effective December 19, 2025.

FOR FURTHER INFORMATION CONTACT: Jessica E. Kabaz-Gomez, Senior Attorney, Aviation Litigation Division, AGC-300, Federal Aviation Administration, Office of the Chief Counsel, 800 Independence Avenue SW, Washington, DC 20591; email jessica.kabaz-gomez@faa.gov.

SUPPLEMENTARY INFORMATION: On September 3, 2025, the “Falsification, Reproduction, Alteration, Omission, or Incorrect Statements” final rule (RIN 2120-AL84) was published in the Federal Register at 90 FR 42517. That final rule amended, restructured, and consolidated the falsification regulations presently located throughout Title 14 of the Code of Federal Regulations. In addition, that rule also created a falsification prohibition applicable to the regulations governing commercial space transportation. After publication, FAA discovered that three sections, 120.103, 142.11, and 413.17, were inadvertently removed. This was not FAA's intent. Rather, FAA sought to remove and reserve paragraphs 120.103(e), 142.11(e)(3), and 413.17(c).

This document places §§ 120.103, 142.11, and 413.17 back in Title 14 of the Code of Federal Regulations. These sections read the same as they did prior to the publication of the final rule, with the exception of removing and reserving paragraphs 120.103(e), 142.11(e)(3), and 413.17(c).

List of Subjects

14 CFR Part 120

Air carriers, Air traffic controllers, Airmen, Alcohol abuse, Alcoholism, Aviation safety, Drug abuse, Drug testing, Reporting and recordkeeping requirements, Safety, Transportation.

14 CFR Part 142

Aircraft, Airmen, Aviation safety, Educational facilities, Reporting and recordkeeping requirements, Schools, Students, Teachers.

14 CFR Part 413

Confidential business information, Reporting and recordkeeping requirements, Rockets, Safety, Space transportation and exploration.

PART 120—DRUG AND ALCOHOL TESTING PROGRAM

1. The authority citation for part 120 continues to read as follows:

Authority: 49 U.S.C. 106(f), 40101-40103, 40113, 40120, 41706, 41721, 44106, 44701, 44702, 44703, 44709, 44710, 44711, 45101-45105, 46105, 46306.

2. Add § 120.103 to read as follows:

§ 120.103 General.

(a) Purpose. The purpose of this subpart is to establish a program designed to help prevent accidents and injuries resulting from the use of prohibited drugs by employees who perform safety-sensitive functions.

(b) DOT procedures. (1) Each employer shall ensure that drug testing programs conducted pursuant to 14 CFR parts 65, 91, 121, and 135 comply with the requirements of this subpart and the “Procedures for Transportation Workplace Drug Testing Programs” published by the Department of Transportation (DOT) (49 CFR part 40).

(2) An employer may not use or contract with any drug testing laboratory that is not certified by the Department of Health and Human Services (HHS) under the National Laboratory Certification Program.

(c) Employer responsibility. As an employer, you are responsible for all actions of your officials, representatives, and service agents in carrying out the requirements of this subpart and 49 CFR part 40.

(d) Applicable Federal regulations. The following applicable regulations appear in 49 CFR or 14 CFR:

(1) 49 CFR part 40—Procedures for Transportation Workplace Drug Testing Programs.

(2) 14 CFR:

(i) § 67.107—First-Class Airman Medical Certificate, Mental.

(ii) § 67.207—Second-Class Airman Medical Certificate, Mental.

(iii) § 67.307—Third-Class Airman Medical Certificate, Mental.

(iv) § 91.147—Passenger carrying flight for compensation or hire.

(v) § 135.1—Applicability.

(e) [RESERVED].

PART 142—TRAINING CENTERS

3. The authority citation for part 142 continues to read as follows:

Authority: 49 U.S.C. 106(f), 40113, 40119, 44101, 44701-44703, 44705, 44707, 44709-44711, 45102-45103, 45301-45302.

4. Add § 142.11 to read as follows:

§ 142.11 Application for issuance or amendment.

(a) An application for a training center certificate and training specifications shall—

(1) Be made on a form and in a manner prescribed by the Administrator;

(2) Be filed with the responsible Flight Standards office for the area in which the applicant's principal business office is located; and

(3) Be made at least 120 calendar days before the beginning of any proposed training or 60 calendar days before effecting an amendment to any approved training, unless a shorter filing period is approved by the Administrator.

(b) Each application for a training center certificate and training specification shall provide—

(1) A statement showing that the minimum qualification requirements for each management position are met or exceeded;

(2) A statement acknowledging that the applicant shall notify the Administrator within 10 working days of any change made in the assignment of persons in the required management positions;

(3) The proposed training authorizations and training specifications requested by the applicant;

(4) The proposed evaluation authorization;

(5) A description of the flight training equipment that the applicant proposes to use;

(6) A description of the applicant's training facilities, equipment, qualifications of personnel to be used, and proposed evaluation plans;

(7) A training program curriculum, including syllabi, outlines, courseware, procedures, and documentation to support the items required in subpart B of this part, upon request by the Administrator;

(8) A description of a recordkeeping system that will identify and document the details of training, qualification, and certification of students, instructors, and evaluators;

(9) A description of quality control measures proposed; and

(10) A method of demonstrating the applicant's qualification and ability to provide training for a certificate or rating in fewer than the minimum hours prescribed in part 61 of this chapter if the applicant proposes to do so.

(c) The facilities and equipment described in paragraph (b)(6) of this section shall—

(1) Be available for inspection and evaluation prior to approval; and

(2) Be in place and operational at the location of the proposed training center prior to issuance of a certificate under this part.

(d) An applicant who meets the requirements of this part and is approved by the Administrator is entitled to—

(1) A training center certificate containing all business names included on the application under which the certificate holder may conduct operations and the address of each business office used by the certificate holder; and

(2) Training specifications, issued by the Administrator to the certificate holder, containing—

(i) The type of training authorized, including approved courses;

(ii) The category, class, and type of aircraft that may be used for training, testing, and checking;

(iii) For each flight simulator or flight training device, the make model, and series of aircraft or the set of aircraft being simulated and the qualification level assigned;

(iv) For each flight simulator and flight training device subject to qualification evaluation by the Administrator, the identification number assigned by the FAA;

(v) The name and address of all satellite training centers, and the approved courses offered at each satellite training center;

(vi) Authorized deviations or waivers from this part; and

(vii) Any other items the Administrator may require or allow.

(e) The Administrator may deny, suspend, revoke, or terminate a certificate under this part if the Administrator finds that the applicant or the certificate holder—

(1) Held a training center certificate that was revoked, suspended, or terminated within the previous 5 years; or

(2) Employs or proposes to employ a person who—

(i) Was previously employed in a management or supervisory position by the holder of a training center certificate that was revoked, suspended, or terminated within the previous 5 years;

(ii) Exercised control over any certificate holder whose certificate has been revoked, suspended, or terminated within the last 5 years; and

(iii) Contributed materially to the revocation, suspension, or termination of that certificate and who will be employed in a management or supervisory position, or who will be in control of or have a substantial ownership interest in the training center.

(3) [RESERVED];

(4) Should not be granted a certificate if the grant would not foster aviation safety.

(f) At any time, the Administrator may amend a training center certificate—

(1) On the Administrator's own initiative, under section 609 of the Federal Aviation Act of 1958 (49 U.S.C. 1429), as amended, and part 13 of this chapter; or

(2) Upon timely application by the certificate holder.

(g) The certificate holder must file an application to amend a training center certificate at least 60 calendar days prior to the applicant's proposed effective amendment date unless a different filing period is approved by the Administrator.

PART 413—LICENSE APPLICATION PROCEDURES

5. The authority citation for part 413 continues to read as follows:

Authority: 51 U.S.C. 50901-50923.

6. Add § 413.17 to read as follows:

§ 413.17 Continuing accuracy of application; supplemental information; amendment.

(a) An applicant must ensure the continuing accuracy and completeness of information furnished to the FAA as part of a pending license or permit application. If at any time the information an applicant provides is no longer accurate and complete in all material respects, the applicant must submit new or corrected information. As part of this submission, the applicant must recertify the accuracy and completeness of the application under § 413.7. If an applicant does not comply with any of the requirements set forth in this paragraph, the FAA can deny the license or permit application.

(b) An applicant may amend or supplement a license or permit application at any time before the FAA issues or transfers the license or permit.

(c) [RESERVED].

Issued under authority provided by 49 U.S.C. 106(f), 40113, 44701-44709, 46111, 46103, and 46301 in Washington, DC.
Brandon Roberts,
Executive Director, Office of Rulemaking.

[FR Doc. 2025-23414 Filed 12-18-25; 8:45 am]

BILLING CODE 4910-13-P